SURFACE TRANSPORTATION BOARD

60-Day Notice of Intent to Seek Extension of Approval: Household Goods Movers' Disclosure Requirements

ACTION: Notice and request for comments.

AGENCY: Surface Transportation Board.

SUMMARY: As required by the Paperwork Reduction Act of 1995, 44 U.S.C. 3501-3521 (PRA), the Surface Transportation Board (STB or Board) gives notice of its intent to seek approval from the Office of Management and Budget (OMB) for an extension of the information collections (here, third-party disclosures) required by the Board's decisions in Released Rates of Motor Common Carriers of Household Goods, RR 999 (Amendment No. 5) (STB served Jan. 21, 2011); Released Rates of Motor Common Carriers of Household Goods, RR 999 (Amendment No. 5) (STB served Jan.10, 2012).

Congress, in the Safe, Accountable, Flexible, Efficient Transportation Equity Act: A Legacy for Users, section 4215, Public Law 109-59, 119 Stat. 1144, 1760 (2005), directed the Board to review consumer protection regulations concerning the loss or damage that occurs during interstate household goods moves. In Docket No. RR 999, the Board required household goods motor carriers and freight forwarders (together, Movers) to provide their customers with clear written information concerning the two available cargo-liability options, if they desired to offer a rate limiting their liability on interstate moves to anything less than replacement value of the goods. Movers were required to provide this information on the standard written estimate form, which the Federal Motor Carrier Safety Administration (FMCSA) already required Movers to provide to their household goods moving customers. See 49 CFR 375.213(c).

DATES: Comments on this information collection should be submitted by August 2, 2016.

ADDRESSES: Direct all comments to Chris Oehrle, Surface Transportation Board, 395 E Street SW., Washington, DC 20423-0001, or to PRA@stb.dot.gov. When submitting comments, please refer to “Paperwork Reduction Act Comments, Household Goods Movers' Disclosure Requirements.” For further information regarding this collection, contact Michael Higgins at (202) 245-0284 or at michael.higgins@stb.dot.gov. [Assistance for the hearing impaired is available through the Federal Information Relay Service (FIRS) at 1-800-877-8339.]

SUPPLEMENTARY INFORMATION: Under the PRA, a federal agency that conducts or sponsors a collection of information must display a currently valid OMB control number. A collection of information, which is defined in 44 U.S.C. 3502(3) and 5 CFR 1320.3(c), includes agency requirements that persons submit reports, keep records, or provide information to the agency, third parties, or the public. Under 44 U.S.C. 3506(c)(2)(A), federal agencies are required to provide, prior to an agency's submitting a collection to OMB for approval, a 60-day notice and comment period through publication in the Federal Register concerning each proposed collection of information, including each proposed extension of an existing collection of information.

Comments are requested concerning: (1) The accuracy of the Board's burden estimates; (2) ways to enhance the quality, utility, and clarity of the information collected; (3) ways to minimize the burden of the collection of information on the respondents, including the use of automated collection techniques or other forms of information technology, when appropriate; and (4) whether the collection of information is necessary for the proper performance of the functions of the Board, including whether the collection has practical utility. Submitted comments will be summarized and included in the Board's request for OMB approval.

Description of Collections

Title: Household Goods Movers' Disclosure Requirements.

OMB Control Number: 2140-0027.

STB Form Number: None.

Type of Review: Extension with change.

Respondents: Movers that desire to offer a rate limiting their liability on interstate moves to anything less than replacement value of the goods.

Number of Respondents: 7,000 (approximate number of Movers involved in authorized for-hire household goods carriage in the United States according to American Moving and Storage Association).

Frequency: Occasionally.

Total Burden Hours: None. The change to the estimate form was a one-time, start-up cost, which was considered in the cost analysis of the Board's previous approval for this collection. Therefore, there is no longer an hourly burden.

Total “Non-hour Burden” Cost: None. Movers may provide these forms to shippers electronically. Further, as with the burden hours above, the one-time, start-up costs that were previously considered no longer apply. Therefore, there is no non-hourly burden to respondents.

Needs and Uses: Moving companies must inform consumers of their rights and obtain a signed waiver if the consumer elects anything other than full-value protection. See Released Rates of Motor Common Carriers of Household Goods, RR 999 (Amendment No. 4) (STB served June 13, 2007). Previously, consumers were sometimes confused and did not realize that they had waived full-value protection until after they had experienced damage to or loss of their goods. The information collection that is the subject of this notice is intended to correct this problem by providing early notice regarding the two liability options (full-value protection and the lower released-rate protection), as well as adequate time and information to help consumers decide which option to choose.

Dated: May 26, 2016.
Brendetta S. Jones,
Clearance Clerk.

[FR Doc. 2016-12897 Filed 6-2-16; 8:45 am]

BILLING CODE 4915-01-P